DEPARTMENT OF TRANSPORTATION

National Highway Traffic Safety Administration

[Docket No. NHTSA-2000-7164; Notice 1]

Suzuki Motor Corp.; Receipt of Application for Decision of Inconsequential Noncompliance

Suzuki Motor Corporation of Hamamatsu, Japan, has determined that 1,595 vehicles fail to comply with Federal Motor Vehicle Safety Standard (FMVSS) No. 225, “Child Restraint Anchorage Systems,” and has filed an appropriate report pursuant to 49 CFR part 573, “Defect and Noncompliance Reports.” Suzuki has also applied to be exempted from the notification and remedy requirements of 49 U.S.C. Chapter 301—“Motor Vehicle Safety” on the basis that the noncompliance is inconsequential to motor vehicle safety.

This notice of receipt of an application is published under 49 U.S.C. 30118 and 30120 and does not represent any agency decision or other exercise of judgment concerning the merits of the application.

FMVSS No. 225, S4.1, requires that:

Each tether anchorage and each child restraint anchorage system installed, either voluntarily or pursuant to this standard, in any new vehicle manufactured on or after September 1, 1999, shall comply with the configuration, location, marking and strength requirements of this standard. The vehicle shall be delivered with written information, in English, on how to appropriately use those anchorages and systems.

FMVSS No. 225, S12, requires that:

The vehicle must provide written instructions, in English, for using the tether anchorages and the child restraint anchorage system in the vehicle. If the vehicle has an owner's manual, the instructions must be in that manual. The instructions shall:

(a) Indicate which seating positions in the vehicle are equipped with tether anchorages and child restraint anchorage systems;

(b) In the case of vehicles required to be marked as specified in paragraphs S4.1, S9.5(a), or S15.4, explain the meaning of markings provided to locate the lower anchorages of child restraint anchorage systems; and

(c) Include instructions that provide a step-by-step procedure, including diagrams, for properly attaching a child restraint system's tether strap to the tether anchorages.

At the start of production for the 2000 model year, Suzuki began installing user-ready tether anchorages as standard equipment in Suzuki Swift vehicles. Due to an oversight, however, Suzuki neglected to update the Suzuki Swift owner's manual in conjunction with this production change. As a result, the owner's manual for 1,595 Suzuki Swift vehicles manufactured between August 1999 and February 2000, and shipped prior to March 2000 do not comply with the information requirements in FMVSS No. 225.

Suzuki supports its application for inconsequential noncompliance with the following:

The vehicle owner's manual for the subject Suzuki Swift vehicles contains the following text relating to the use of child restraint systems that require use of a top tether:

“Some child restraint systems require the use of a top strap. If you use such a restraint system and your vehicle is not equipped with the top tether strap anchor bracket, have your dealer install the top strap anchor bracket, or contact your dealer for instructions on how to install the anchor bracket.”

In addition to the text message, the owner's manual contains two illustrations (one for the hatchback model and one for the sedan model) showing a child restraint system positioned at one of the rear seating positions, with its tether strap attached to the tether anchorage.

Although the Swift owner's manual does not mention that user-ready tether anchorages are provided as standard equipment and does not show all of the seating positions that are equipped with a tether anchorage, the illustrations in the manual do show the tether anchorage location for one of the rear seating positions. Suzuki believes that vehicle owners will assume, based on the illustrations, that anchorages are provided for both rear seating positions. In addition, when you look at the actual vehicle, it is obvious that user-ready anchorages are provided as standard equipment for both rear seating positions. Since the tether anchorages are easily recognizable in the vehicle, Suzuki believes that failure to fully illustrate the location of each tether anchorage in the vehicle owner's manual is inconsequential.

The Swift owner's manual also does not fully comply with the requirement for “...provide a step-by-step procedure, including diagrams, for properly attaching a child restraint system to the tether anchorages...”. Typically, because there are differences in child restraint system design, the vehicle owner's manual can only provide general instructions to hook the tether strap hook into the anchor bracket and tighten the tether strap. These steps are somewhat obvious, and should be intuitively understood by vehicle owners.

Also, each child restraint system is required to be accompanied with its own installation instructions. S5.6.1 of FMVSS No. 213, Child Restraint Systems, requires that each child restraint system “...must be accompanied by printed installation instructions in the English language that provide a step-by-step procedure, including diagrams, for installing the system in motor vehicles...”. Suzuki believes that vehicle owners rely on the installation instructions provided with the child restraint system, rather than those provided in the vehicle owner's manual, for information about how to install the child restraint system in their vehicle. As a result, Suzuki believes that failure to provide a step-by-step procedure, in the vehicle owner's manual, for attaching a child restraint system to the vehicle's tether anchorages is inconsequential to safety.

Interested persons are invited to submit written data, views, and arguments on the application of Suzuki described above. Comments should refer to the docket number and be submitted to: U.S. Department of Transportation Docket Management, Room PL-401, 400 Seventh Street, SW, Washington, DC 20590. It is requested, but not required, that two copies be submitted.

All comments received before the close of business on the closing date indicated below will be considered. The application and supporting materials, and all comments received after the closing date, will also be filed and will be considered to the extent possible. When the application is granted or denied, the notice will be published in the Federal Register pursuant to the authority indicated below.

Comment closing date: May 25, 2000.

(49 U.S.C. 30118 and 30120; delegations of authority at 49 CFR 1.50 and 501.8)

Issued on: April 19, 2000.
Stephen R. Kratzke,
Associate Administrator for Safety Performance Standards.

[FR Doc. 00-10245 Filed 4-24-00; 8:45 am]

BILLING CODE 4910-59-P